TENNESSEE VALLEY AUTHORITY

Sunshine Act Meetings

TIME AND DATE: 9:00 a.m. CT on February 11, 2026.

PLACE: James E. Bruce Convention Center, Hopkinsville, Kentucky.

STATUS: Open.

MATTERS TO BE CONSIDERED:

Meeting No. 26-01

The TVA Board of Directors will hold a public meeting on February 11 at the James E. Bruce Convention Center, 303 Conference Center Drive, in Hopkinsville, Kentucky. The meeting will be called to order at 9:00 a.m. CT to consider the agenda items listed below.

On February 10, at the James E. Bruce Convention Center, the public may comment on any agenda item or subject at a Board-hosted public listening session, which begins at 2:00 p.m. CT and will last until 4:00 p.m. Preregistration is required to address the Board.

Agenda

1. Approval of Minutes of the November 6, 2025 Board Meeting

2. Report of the People and Governance Committee

A. Revision of Approved Strategic Elements and Revision of People and Governance Committee Charter

B. Revision of Approved Long-term Incentive Plan Measures and Goals

3. Report of the Audit, Risk, and Cybersecurity Committee

4. Report of the Operations and Nuclear Oversight Committee

5. Report of the External Stakeholders and Regulation Committee

A. Load Greater than 100 MWs

B. Revision of External Stakeholders and Regulation Committee Charter

6. Report of the Finance, Rates, and Portfolio Committee

A. Cumberland and Kingston Evaluations

7. Report from President and CEO

8. Information Item

A. Committee Assignments

CONTACT PERSON FOR MORE INFORMATION: For more information: Please contact Melissa Greene, TVA Media Relations at (865) 632-6000, Knoxville, Tennessee. Anyone who wishes to comment on any of the agenda in writing may send their comments to: TVA Board of Directors, Board Agenda Comments, 400 West Summit Hill Drive, Knoxville, Tennessee 37902.

Dated: February 4, 2026.
Edward C. Meade,
Agency Liaison.

[FR Doc. 2026-02661 Filed 2-6-26; 4:15 pm]

BILLING CODE 8120-08-P